DEPARTMENT OF DEFENSE

Defense Acquisition Regulations System

48 CFR Part 231

Contract Cost Principles and Procedures

CFR Correction

In Title 48 of the Code of Federal Regulations, Chapter 2, Parts 200 to 299, revised as of October 1, 2014, on page 261, in section 231.205-18, reinstate paragraphs (c)(iv)(A) and (B), to read as follows:

231.205-18 Independent research and development and bid and proposal costs.

* * * * *

(c) * * *

(iv) * * *

(A) Determine whether IR&D/B&P projects are of potential interest to DoD; and

(B) Provide the results of the determination to the contractor.

* * * * *

[FR Doc. 2015-14536 Filed 6-15-15; 8:45 am]

BILLING CODE 1501-01-D